DEPARTMENT OF TRANSPORTATION

Federal Motor Carrier Safety Administration

[Docket No. FMCSA-2001-9876]

Notice of Request To Renew Approval of an Information Collection:OMB No. 2126-0015 (Designation of Agents, Motor Carriers, Brokers and Freight Forwarders)

AGENCY: Federal Motor Carrier Safety Administration (FMCSA), DOT.

ACTION: Notice and request for comments.

SUMMARY: This notice announces that FMCSA intends to submit a request to the Office of Management and Budget (OMB) for renewed approval of the information collection described below. This information collection allows registered motor carriers, property brokers, and freight forwarders a means of meeting process agent requirements. This notice is required by the Paperwork Reduction Act.

DATES: Your comments must be submitted by August 27, 2001.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Ms. Marian Lee, (202) 358-7028, Insurance Compliance Division (MC-ECI), Federal Motor Carrier Safety Administration, Department of Transportation, 400 Seventh Street, SW., Washington, DC 20590. Office hours are from 7:45 a.m. to 4:15 p.m., e.t., Monday through Friday, except Federal holidays.

SUPPLEMENTARY INFORMATION: Title: Designation of Agents, Motor Carriers, Brokers and Freight Forwarders.

OMB Approval Number: 2126-0015.

Background: The Secretary of Transportation is authorized to register for-hire motor carriers of regulated commodities under the provisions of 49 U.S.C. 13902; freight forwarders under the provisions of 49 U.S.C. 13903, and property brokers under the provisions of 49 U.S.C. 13904. These persons may conduct transportation services only if they are registered pursuant to 49 U.S.C. 13901. The Secretary has delegated authority pertaining to these registrations to the FMCSA. Registered motor carriers, brokers, and freight forwarders must designate (1) an agent on whom service of notices in proceedings before the Secretary may be made (49 U.S.C. 13303); and (2) for every state in which they operate, agents on whom process issued by a court may be served in actions brought against the registered transportation entity (49 U.S.C. 13304). Regulations governing the designation of process agents are found at 49 CFR 366. This designation is filed with the FMCSA on Form BOC-3.

Respondents: Motor carriers, freight forwarders, and brokers.

Estimated Burden: The estimated average burden per response for Form BOC-3 is 10 minutes. The estimated total annual burden is 5,000 hours for Form BOC-3 based on 30,000 filings per year.

Frequency: Form BOC-3 must be filed when the transportation entity first registers with the FMCSA. Subsequent filings are made only if the motor carrier, broker, or freight forwarder changes process agents.

Public Comments Invited: We invite you to comment on any aspect of this information collection, including, but not limited to (1) whether the collection of information is necessary for the proper performance of the functions of the FMCSA, including whether the information is practical and useful; (2) the accuracy of the estimated burden; (3) ways to enhance the quality, usefulness, and clarity of the collected information; and (4) ways to minimize the collection burden without reducing the quality of the information collected.

Electronic Access and Filing: You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site. You may also download an electronic copy of this document from the DOT Docket Management System on the Internet at http://dms.dot.gov/search.htm. Please include the docket number appearing in the heading of this document.

Authority: The Paperwork Reduction Act of 1995; 44 U.S.C. Chapter 35, as amended; and 49 CFR 1.73.

Issued on: June 21, 2001.
Brian M. McLaughlin,
Acting Deputy Administrator.

[FR Doc. 01-16083 Filed 6-26-01; 8:45 am]

BILLING CODE 4910-EX-P